NUCLEAR REGULATORY COMMISSION

10 CFR Parts 30, 37, 73, and 150

[NRC-2012-0140]

RIN 3150-AJ18

Safeguards Information—Modified Handling Categorization; Change for Materials Facilities

AGENCY: U.S. Nuclear Regulatory Commission.

ACTION: Direct final rule; confirmation of effective date, NUREG issuance, and correction.

SUMMARY: The U.S. Nuclear Regulatory Commission (NRC) is confirming the effective date of January 28, 2015, for the direct final rule that was published in the Federal Register on September 30, 2014, which amended the NRC's regulations by removing the Safeguards Information—Modified Handling (SGI-M) designation for certain security-related information. The NRC is also announcing the availability of implementation guidance for the direct final rule, and correcting the “Compatibility Table for Direct Final Rule” appearing in Section V, “Compatibility of Agreement State Regulations,” of the direct final rule.

DATES: Effective date: The effective date of January 28, 2015, for the direct final rule published September 30, 2014 (79 FR 58664), is confirmed. The correction of the “Compatibility Table for Direct Final Rule” is effective January 26, 2015.

ADDRESSES: Please refer to Docket ID NRC-2012-0140 when contacting the NRC about the availability of information for this action. You may obtain publicly-available information related to this action by any of the following methods:

• Federal Rulemaking Web site: Go to http://www.regulations.gov and search for Docket ID NRC-2012-0140. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Vanessa Cox, Office of Nuclear Material Safety and Safeguards, U.S. Nuclear Regulatory Commission, Washington, DC 20555-0001; telephone: 301-415-8342, email: Vanessa.Cox@nrc.gov and Michelle Killian, Office of Nuclear Material Safety and Safeguards, U.S. Nuclear Regulatory Commission, Washington, DC 20555-0001; telephone: 301-415-6711, email: Michelle.Killian@nrc.gov.

SUPPLEMENTARY INFORMATION:

I. Confirmation of Effective Date

On September 30, 2014 (79 FR 58664), the NRC published a direct final rule amending its regulations in parts 30, 37, 73, and 150 of Title 10 of the Code of Federal Regulations (10 CFR) by removing the SGI-M designation of the security-related information for large irradiators, manufacturer and distributors, and for transport of category 1 quantities of radioactive material. The direct final rule also removed the SGI-M designation of the security-related information for the transportation of irradiated reactor fuel that weighs 100 grams or less in net weight of irradiated fuel. The security-related information for these facilities and the transportation of certain materials will no longer be designated as SGI-M and will be protected under the information protection requirements that apply to other materials licensees that possess category 1 and category 2 quantities of radioactive material.

In the direct final rule, the NRC stated that if no significant adverse comments were received, the direct final rule would become effective on January 28, 2015. The NRC received one public comment from an anonymous commenter (ADAMS Accession No. ML14302A494) on the companion proposed rule. The commenter stated that the rule should be amended because it will require an additional information protection requirement on the product. The commenter also stated that the additional requirement would be needed so that the information relating to the product “would not get leaked.” The NRC staff reviewed this comment and concluded that this comment is not a significant adverse comment as defined in NUREG-BR-0053, Revision 6, “United States Nuclear Regulatory Commission Regulations Handbook” (ADAMS Accession No. ML052720461), because the comment does not present a reason or issue that warrants a substantive response. The comment does not aid the NRC's understanding of any concern with the NRC's decision to remove the SGI-M designations from some categories of information. Information that merits protection now falls within the information protection provisions of 10 CFR part 37. Therefore, this direct final rule will become effective as scheduled.

II. Availability of Guidance

The NRC is issuing revised NUREG-2155 (Rev 1), “Implementation Guidance of 10 CFR part 37, `Physical Protection of Category 1 and Category 2 Quantities of Radioactive Material,' ” to conform the guidance to the direct final rule by removing references to the SGI-M designation and to make minor editorial changes and updates. The guidance is available in ADAMS under Accession No. ML15016A172.

III. Direct Final Rule; Correction

In the Federal Register (FR) on September 30, 2014, in FR Doc. 2014-23256, on page 58669, the following corrections are made to the table entitled, “Compatibility Table for Direct Final Rule:”

1. In the column entitled, “Existing,” in the seventh row, correct the compatibility category “NRC” for § 37.43(d)(1) to read “C”.

2. In the column entitled, “New,” in the seventh row, add compatibility category “C” for § 37.43(d)(1).

These minor and administrative changes correct an error in the original document and do not change the substantive responsibilities of any person or entity regulated by the NRC.

Dated at Rockville, Maryland, this 20th day of January 2015.
For the Nuclear Regulatory Commission.
Cindy Bladey,
Chief, Rules, Announcements, and Directives Branch, Division of Administrative Services, Office of Administration.

[FR Doc. 2015-01253 Filed 1-23-15; 8:45 am]

BILLING CODE 7590-01-P